DEPARTMENT OF HOMELAND SECURITY

Agency Information Collection Activities: Various Contract Related Forms That Will Be Included in the Homeland Security Acquisition Regulation, DHS Form 0700-01, DHS Form 0700-02, DHS Form 0700-03, DHS FORM 0700-04

AGENCY: Office of Chief Procurement Officer, Acquisition Policy and Legislation Office, DHS.

ACTION: 60-Day Notice and request for comments; Extension without Change, 1600-0002

SUMMARY: The Department of Homeland Security, Office of Chief Procurement Officer, Acquisition Policy and Legislation Office, will submit the following Information Collection Request (ICR) to the Office of Management and Budget (OMB) for review and clearance in accordance with the Paperwork Reduction Act of 1995 (Pub. L. 104-13, 44 U.S.C. Chapter 35).

DATES: Comments are encouraged and will be accepted until June 20, 2014. This process is conducted in accordance with 5 CFR 1320.1.

ADDRESSES: Written comments and questions about this Information Collection Request should be forwarded to the Office of the Chief Procument Officer, Acquisition Policy and Legislation Office, DHS Attn.: Camara Francis, Department of Homeland Security, Office of the Chief Procurement Officer, Room 3114, Washington, DC 20528, Camara.Francis@hq.dhs.gov, 202-447-5904.

SUPPLEMENTARY INFORMATION: This information collection under the Homeland Security Acquisition Regulation (HSAR) is necessary in order to implement applicable parts of the FAR (48 CFR). The four forms under this collection of information request are used by offerors, contractors, and the general public to comply with requirements in contracts awarded by the Department of Homeland Security (DHS). The four forms are DHS Form 0700-01, Cumulative Claim and Reconciliation Statement; DHS Form 0700-02, Contractor's Assignment of Refund, Rebates, Credits and Other Amounts; DHS Form 0700-03, Contractor's Release; and DHS Form 0700-04, Employee Claim for Wage Restitution. These four forms will be used by contractors and/or contract employees during contract administration.

The information will be used by DHS contracting officers to ensure compliance with terms and conditions of DHS contracts and to complete reports required by other Federal agencies such as the General Services Administration and the Department of Labor. If this information is not collected, the DHS could inadvertently violate statutory or regulatory requirements and the DHS's interest concerning inventions and contractor's claims would not be protected.

There has been an increase in the estimated annual burden hours previously reported for this collection. An adjustment in annual burden is necessary at this time in the amount of 902 actions and hours. The initial annual burden was based on a lower number of contract actions which related to the fact that DHS was a new agency with consolidated acquisition procedures, processes, and policies. Although, there is an increase in the estimated burdened hours, there is no change in the information being collected.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Chief Procurement Officer, Acquisition Policy and Legislation Office, DHS.

Title: Various Contract Related Forms That Will Be Included in the Homeland Security Acquisition Regulation.

OMB Number: 1600-0002.

Frequency: On Occasion.

Affected Public: Private sector.

Number of Respondents: 9537.

Estimated Time per Respondent: 1 hours.

Total Burden Hours: 9537.

Dated: April 16, 2014.
Margaret H. Graves,
Deputy Chief Information Officer.

[FR Doc. 2014-09012 Filed 4-18-14; 8:45 am]

BILLING CODE 9110-9B-P